POSTAL SERVICE

39 CFR Part 111

POSTNET Barcode

AGENCY: Postal Service™.

ACTION: Proposed rule.

SUMMARY: The Postal Service is proposing an amendment of the Mailing Standards of the United States Postal Service, Domestic Mail Manual, (DMM®) to remove all references to the POSTNET™ barcode.

DATES: Submit comments on or before August 22, 2018.

ADDRESSES: Mail or deliver written comments to the manager, Product Classification, U.S. Postal Service, 475 L'Enfant Plaza SW, Room 4446, Washington, DC 20260-5015. If sending comments by email, include the name and address of the commenter and send to ProductClassification@usps.gov, with a subject line of “POSTNET.” Faxed comments are not accepted.

You may inspect and photocopy all written comments, by appointment only, at USPS® Headquarters Library, 475 L'Enfant Plaza SW, 11th Floor North, Washington, DC, 20260. These records are available for review on Monday through Friday, 9 a.m.-4 p.m., by calling 202-268-2906.

FOR FURTHER INFORMATION CONTACT: Lizbeth Dobbins at (202) 268-3789 or Garry Rodriguez at (202) 268-7261.

SUPPLEMENTARY INFORMATION:

Background

On March 2, 2012, the Postal Service published a proposed rule in the Federal Register (77 FR 12764-12769) to discontinue automation price eligibility for POSTNET barcodes. This was followed by publication of a final rule in the Federal Register (77 FR 26185-26191) on May 3, 2012.

Effective January 27, 2013, the Postal Service revised the DMM throughout various sections to discontinue automation price eligibility based on the use of POSTNET barcodes on all types of mail. However, while the use of the POSTNET barcode was discontinued for price eligibility, the Postal Service continued to allow the use of the POSTNET barcode to qualify for certain Business Reply Mail® prices and in other circumstances. The DMM therefore retained language referring to POSTNET barcodes.

Proposal

As a result, after discussion with the mailing industry the Postal Service is proposing to remove all references to the POSTNET barcode from the DMM. This decision was based on the limited use of the POSTNET barcode and the need to simplify the standards in regards to barcoding letter-size and flat-size mailpieces.

The Postal Service will continue to process mailpieces with a POSTNET barcode to accommodate customers who may have preprinted stock bearing a POSTNET barcode.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. See 39 CFR 111.1.

We will publish an appropriate amendment to 39 CFR part 111 to reflect these changes.

Accordingly, 39 CFR part 111 is proposed to be amended as follows:

List of Subjects in 39 CFR Part 111

Administrative practice and procedure, Postal Service.

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

200 Commercial Mail Letters, Cards, Flats, and Parcels

* * * * *

202 Elements on the Face of a Mailpiece

* * * * *

5.0 Barcode Placement Letters and Flats

5.1 Letter-Size

* * * * *

5.1.4 Additional Barcode Permissibility

[Revise the text of 5.1.4 to read as follows:]

An automation letter or a letter claimed at Enhanced Carrier Route saturation or high density automation letter prices may not bear a 5-digit or ZIP+4 Intelligent Mail barcode in the lower right corner (barcode clear zone). The piece may bear an additional Intelligent Mail barcode in the address block only if a qualifying Intelligent Mail barcode with a delivery point routing code appears in the lower right corner.

* * * * *

5.2 Flat-Size

5.2.1 Barcode Placement for Flats

[Revise the fifth sentence of 5.2.1 to read as follows:]

* * * An additional Intelligent Mail barcode may also appear in the address block of an automation flat, when the qualifying Intelligent Mail barcode is not in the address block. * * *

* * * * *

6.0 Barcode Placement for Parcels

* * * * *

[Revise the heading and text of 6.3 to read as follows:]

6.3 Intelligent Mail Barcodes

Intelligent Mail barcodes (IMb) do not meet barcode eligibility requirements for parcels and do not qualify for any barcode-related prices for parcels, but one barcode may be included only in the address block on a parcel, except on eVS parcels. An Intelligent Mail barcode in the address block must be placed according to 5.3.

* * * * *

8.0 Facing Identification Mark (FIM)

* * * * *

8.2 Pattern

[Revise the third sentence in the introductory text of 8.2 to read as follows:]

* * * The required FIM pattern as shown in Exhibit 8.2.0 below depends on the type of mail and the presence of an Intelligent Mail barcode as follows:

* * * * *

204 Barcode Standards

Overview

[Revise the link heading under “Overview” to read as follows:]

1.0 Standards for Intelligent Mail Barcodes

* * * * *

[Revise the heading of 1.0 to read as follows:]

1.0 Standards for Intelligent Mail Barcodes

1.1 General

[Revise the text of 1.1 to read as follows:]

An Intelligent Mail barcode is a USPS-developed method to encode ZIP Code information on mail that can be read for sorting by automated machines. Intelligent Mail barcodes also encode other tracking information.

[Delete 1.2, POSTNET Barcode, in its entirety and renumber 1.3 through 1.6 as 1.2 through 1.5.]

* * * * *

507 Mailer Services

* * * * *

4.0 Address Correction Services

* * * * *

4.2 Address Change Service (ACS)

* * * * *

4.2.6 Additional Standards—When Using Intelligent Mail Barcodes

* * * Mailpieces must meet the following specifications:

* * * * *

[Revise the text of item b to read as follows:]

b. Flat-size mailpieces may be mailed at nonautomation or automation prices.

* * * * *

600 Basic Standards For All Mailing Services

* * * * *

604 Postage Payment Methods and Refunds

* * * * *

4.0 Postage Meters and PC Postage Products (“Postage Evidencing Systems”)

* * * * *

4.3 Postage Payment

* * * * *

4.3.3 Placement of Postage

* * * When placing indicia on mailpieces, position indicia at least ¼ inch from the right edge of the mailpiece and ¼ inch from the top edge of the mailpiece and as follows:

* * * * *

[Revise the text of item e to read as follows:]

e. Do not allow the indicia to infringe on the areas reserved for the FIM, Intelligent Mail barcode, or optical character reader (OCR) clear zone.

* * * * *

Index

* * * * *

P

* * * * *

[Delete the “POSTNET” line item in the Index.]

* * * * *

Ruth Stevenson,
Attorney, Federal Compliance.

[FR Doc. 2018-15549 Filed 7-20-18; 8:45 am]

BILLING CODE 7710-12-P